DEPARTMENT OF THE INTERIOR

Minerals Management Service

Agency Information Collection Activities: Proposed Collection, Comment Request

AGENCY: Minerals Management Service (MMS), Interior.

ACTION: Notice of an extension of a currently approved information collection (OMB Control Number 1010-0120).

SUMMARY: To comply with the Paperwork Reduction Act (PRA) of 1995, we are inviting comments on a collection of information that we will submit to the Office of Management and Budget (OMB) for review and approval. The information collection request (ICR) is titled “30 CFR Part 206, Subparts F—Federal Coal and J—Indian Coal, Part 210, Subpart E—Solid Minerals, General, and Part 218, Subpart E—Solid Minerals—General, Solid Minerals Compliance and Management Process (Form MMS-4430, Solid Minerals Production and Royalty Report).”

DATES: Submit written comments on or before May 7, 2004.

ADDRESSES: Submit written comments to Sharron L. Gebhardt, Lead Regulatory Specialist, Minerals Management Service, Minerals Revenue Management, P.O. Box 25165, MS 320B2, Denver, Colorado 80225. If you use an overnight courier service, our courier address is Building 85, Room A-614, Denver Federal Center, Denver, Colorado 80225. You may also e-mail your comments to us at mrm.comments@mms.gov. Include the title of the information collection and the OMB control number in the “Attention” line of your comment. Also include your name and return address. Submit electronic comments as an ASCII file avoiding the use of special characters and any form of encryption. If you do not receive a confirmation we have received your email, contact Ms. Gebhardt at (303) 231-3211.

FOR FURTHER INFORMATION CONTACT: Sharron L. Gebhardt, telephone (303) 231-3211, FAX (303) 231-3781 or email sharron.gebhardt@mms.gov.

SUPPLEMENTARY INFORMATION:

Title: 30 CFR Part 206, Subparts F—Federal Coal and J—Indian Coal, Part 210, Subpart E—Solid Minerals, General, and Part 218, Subpart E—Solid Minerals—General, Solid Minerals Compliance and Management Process (Form MMS-4430, Solid Minerals Production and Royalty Report).

OMB Control Number: 1010-0120.

Bureau Form Number: Form MMS-4430.

Abstract: The Secretary of the U.S. Department of the Interior (DOI) is responsible for collecting royalties from lessees who produce minerals from leased Federal and Indian lands. The Secretary is required by various laws to manage mineral resources production on Federal and Indian lands, collect the royalties due, and distribute the funds in accordance with those laws.

The Secretary also has an Indian trust responsibility to manage Indian lands and seek advice and information from Indian beneficiaries. MMS performs the royalty management functions and assists the Secretary in carrying out DOI's Indian trust responsibility.

The information collection request 1010-0120 provides for the collection of solid minerals information. The lessees, operators, or other directly-involved persons described at 30 U.S.C. 1713 are required to make reports and provide reasonable information as defined by the Secretary regarding solid minerals production. Other citations supporting the reporting requirement include 30 U.S.C. 189 pertaining to Public Lands, 30 U.S.C. 359 pertaining to Acquired Lands, 25 U.S.C. 396d pertaining to Indian Lands, and 43 U.S.C. 1334 pertaining to Outer Continental Shelf Lands.

When a company or an individual enters into a lease to explore, develop, produce, and dispose of minerals from Federal or Indian lands, that company or individual agrees to pay the lessor a share (royalty) of the value received from production from the leased lands. The lease creates a business relationship between the lessor and the lessee. The lessee is required to report various kinds of information to the lessor relative to the disposition of the leased minerals. Such information is similar to data reported to private and public mineral interest owners and is generally available within the records of the lessee or others involved in developing, transporting, processing, purchasing, or selling of such minerals. The information collected includes data necessary to ensure the royalties are paid appropriately.

Specific lease language varies; however, respondents agree by the lease terms to furnish statements providing the details of all operations conducted on a lease and the quantity and quality of all production from the lease at such times and in such form as the Secretary may prescribe. Currently, rules require respondents to provide accurate, complete, and timely reports for all minerals produced, in the manner and form prescribed by MMS in 30 CFR part 206, subparts F and J; part 210, subpart E, and part 218, subpart E.

Minerals produced from Federal and Indian leases vary greatly in the nature of occurrence, production and processing methods, and markets served. Also, lease terms, statutory requirements, and regulations vary significantly among the different solid minerals. MMS exercises flexibility in the types of data required to meet the compliance and management process strategy. The current requirements provide MMS with the ability to verify that revenue due the government has been paid correctly under applicable laws, regulations, and lease terms. MMS collects solid minerals production and royalty data on Form MMS-4430, Solid Minerals Production and Royalty Report, along with sales summaries, facility data, and sales contracts.

Submission of this information is mandatory. Proprietary information that is submitted is protected, and there are no questions of a sensitive nature included in this information collection.

We have also changed the title of this ICR from “Solid Minerals Compliance and Management Process” to “30 CFR Part 206, Subparts F—Federal Coal and J—Indian Coal, Part 210, Subpart E—Solid Minerals, General, and Part 218, Subpart E—Solid Minerals—General, Solid Minerals Compliance and Management Process (Form MMS-4430, Solid Minerals Production and Royalty Report),” to clarify the regulatory language we are covering under 30 CFR parts 206, 210, and 218.

For further clarification, we are including citations in this ICR renewal that cover the compliance process, although it is exempt from the PRA by OMB's Office of Regulatory Affairs (ORA) and, therefore, no burden hours are reported for these sections. For the remaining sections, we are increasing the burden hours. Over the past 3 years, lessees have advised MMS that it takes more time to report on Form MMS-4430, and we are adjusting the burden hours accordingly.

Frequency of Response: Annually.

Estimated Number and Description of Respondents: 210 Indian lessees.

Estimated Annual Reporting and Recordkeeping “Hour” Burden: 1,488 hours.

The following chart shows the breakdown of the estimated burden hours by CFR section and paragraph:

Respondent Annual Burden Hour Chart
30 CFR section | Reporting requirement | Burden hours per response | Annual number of responses | Annual burden hours
Valuation Standards
206.254 | Quality and quantity measurement standards for reporting and paying royalties. * * * Coal quantity information shall be reported on appropriate forms required under 30 CFR part 216 and on the Solid Minerals Production and Royalty Report, Form MMS-4430, as required under 30 CFR part 210 | 10 minutes | 12 | 2
206.257(b)(1) | Valuation standards for ad valorem leases. (b)(1) * * * The lessee shall have the burden of demonstrating that its contract is arm's length. * * * | Produce Records: The Office of Regulatory Affairs (ORA) determined that the compliance process is exempt from the Paperwork Reduction Act because MMS staff ask non-standard questions to resolve exceptions.
206.257(b)(3) | Valuation standards for ad valorem leases. (3) * * * When MMS determines that the value may be unreasonable, MMS will notify the lessee and give the lessee an opportunity to provide written information justifying the lessee's reported coal value | Produce Records: ORA determined that the compliance process is exempt from the PRA because MMS staff ask non-standard questions to resolve exceptions.
206.257(b)(4) | Valuation standards for ad valorem leases. (4) The MMS may require a lessee to certify that its arm's-length contract provisions include all of the consideration to be paid by the buyer, either directly or indirectly, for the coal production | Produce Records: ORA determined that the compliance process is exempt from the PRA because MMS staff ask non-standard questions to resolve exceptions.
206.257(d)(2) | Valuation standards for ad valorem leases. (2) Any Federal lessee will make available upon request to the authorized MMS or State representatives, to the Inspector General of the Department of the Interior or other persons authorized to receive such information, arm's-length sales value and sales quantity data for like-quality coal sold, purchased, or otherwise obtained by the lessee from the area | Produce Records: ORA determined that the compliance process is exempt from the PRA because MMS staff ask non-standard questions to resolve exceptions.
Washing Allowances
206.259(a)(1) | Determination of washing allowances. (a) Arm's-length contracts. (1) * * * The lessee shall have the burden of demonstrating that its contract is arm's-length. * * * | Produce Records: ORA determined that the compliance process is exempt from the PRA because MMS staff ask non-standard questions to resolve exceptions.
206.259(a)(1) | Determination of washing allowances. (a) Arm's-length contracts. (1) * * * The lessee must claim a washing allowance by reporting it as a separate line entry on the Form MMS-4430 | 30 minutes | 12 | 6
206.259(a)(3) | Determination of washing allowances. (a) Arm's-length contracts. * * * (3) * * * When MMS determines that the value of the washing may be unreasonable, MMS will notify the lessee and give the lessee an opportunity to provide written information justifying the lessee's washing costs | Produce Records: ORA determined that the compliance process is exempt from the PRA because MMS staff ask non-standard questions to resolve exceptions.
206.259(b)(1) | Determination of washing allowances. (b) Non-arm's-length or no contract. (1) * * * The lessee must claim a washing allowance by reporting it as a separate line entry on the Form MMS-4430. * * * | 1 hour | 12 | 12
206.259(c)(1)(i) | Determination of washing allowances. (c) Reporting requirements—(1) Arm's-length contracts. (i) The lessee must notify MMS of an allowance based on incurred costs by using a separate line entry on the Form MMS-4430 | 5 minutes | 12 | 1
206.259(c)(1)(ii) | Determination of washing allowances. (c) Reporting requirements—(1) Arm's-length contracts. * * * (ii) The MMS may require that a lessee submit arm's-length washing contracts and related documents. * * * | Produce Records: ORA determined that the compliance process is exempt from the PRA because MMS staff ask non-standard questions to resolve exceptions.
206.259(c)(2)(i) | Determination of washing allowances. (c) Reporting requirements—* * * (2) Non-arm's-length or no contract. (i) The lessee must notify MMS of an allowance based on the incurred costs by using a separate line entry on the Form MMS-4430 | 5 minutes | 12 | 1
206.259(c)(2)(iii) | Determination of washing allowances. (c) Reporting requirements—* * * (2) Non-arm's-length or no contract.* * * (iii) Upon request by MMS, the lessee shall submit all data used to prepare the allowance deduction. * * * | Produce Records: ORA determined that the compliance process is exempt from the PRA because MMS staff ask non-standard questions to resolve exceptions.
206.259(e)(2) | Determination of washing allowances. (e) Adjustments. * * * (2) The lessee must submit a corrected Form MMS-4430 to reflect actual costs, together with any payment, in accordance with instructions provided by MMS | 30 minutes | 4 | 2
Transportation Allowances
206.262(a)(1) | Determination of transportation allowances. (a) Arm's-length contracts. (1) * * * The lessee shall have the burden of demonstrating that its contract is arm's-length.* * * | Produce Records: ORA determined that the compliance process is exempt from the PRA because MMS staff ask non-standard questions to resolve exceptions.
206.262(a)(1) | Determination of transportation allowances. (a) Arm's-length contracts. (1) * * * The lessee must claim a transportation allowance by reporting it as a separate line entry on the Form MMS-4430 | 30 minutes | 12 | 6
206.262(a)(3) | Determination of transportation allowances. (a) Arm's-length contracts.* * * (3) * * * When MMS determines that the value of the transportation may be unreasonable, MMS will notify the lessee and give the lessee an opportunity to provide written information justifying the lessee's transportation costs | Produce Records: ORA determined that the compliance process is exempt from the PRA because MMS staff ask non-standard questions to resolve exceptions.
206.262(b)(1) | Determination of transportation allowances. (b) Non-arm's-length or no contract.—(1) * * * The lessee must claim a transportation allowance by reporting it as a separate line entry on the Form MMS-4430. * * * | 1 hour | 12 | 12
206.262(c)(1)(i) | Determination of transportation allowances. (c) Reporting requirements—(1) Arm's-length contracts. (i) The lessee must notify MMS of an allowance based on incurred costs by using a separate line entry on the Form MMS-4430 | 5 minutes | 12 | 1
206.262(c)(1)(ii) | Determination of transportation allowances. (c) Reporting requirements—(1) Arm's-length contracts. * * * (ii) The MMS may require that a lessee submit arm's-length transportation contracts, production agreements, operating agreements, and related documents. * * * | Produce Records: ORA determined that the compliance process is exempt from the PRA because MMS staff ask non-standard questions to resolve exceptions.
206.262(c)(2)(i) | Determination of transportation allowances. (c) Reporting requirements—(2) Non-arm's-length or no contract. (i) The lessee must notify MMS of an allowance based on the incurred costs by using a separate line entry on Form MMS-4430 | 5 minutes | 12 | 1
206.262(c)(2)(iii) | Determination of transportation allowances. (c) Reporting requirements—(2) Non-arm's-length or no contract. * * * (iii) Upon request by MMS, the lessee shall submit all data used to prepare the allowance deduction. * * * | Produce Records: ORA determined that the compliance process is exempt from the PRA because MMS staff ask non-standard questions to resolve exceptions.
Valuation Standards
206.453 | Quality and quantity measurement standards for reporting and paying royalties. * * * Coal quantity information shall be reported on appropriate forms required under 30 CFR part 216 and on the Solid Minerals Production and Royalty Report, Form MMS-4430, as required under 30 CFR part 210 | 10 minutes | 12 | 2
206.456(b)(1) | Valuation standards for ad valorem leases. (b)(1) * * * The lessee shall have the burden of demonstrating that its contract is arm's-length. * * * | Produce Records: ORA determined that the compliance process is exempt from the PRA because MMS staff ask non-standard questions to resolve exceptions.
206.456(b)(3) | Valuation standards for ad valorem leases. (b)(3) * * * When MMS determines that the value may be unreasonable, MMS will notify the lessee and give the lessee an opportunity to provide written information justifying the lessee's reported coal value | Produce Records: ORA determined that the compliance process is exempt from the PRA because MMS staff ask non-standard questions to resolve exceptions.
206.456(b)(4) | Valuation standards for ad valorem leases. (b)(4) MMS may require a lessee to certify that its arm's-length contract provisions include all of the consideration to be paid by the buyer, either directly or indirectly, for the coal production | Produce Records: ORA determined that the compliance process is exempt from the PRA because MMS staff ask non-standard questions to resolve exceptions.
206.456(d)(2) | Valuation standards for ad valorem leases. (d)(2) An Indian lessee will make available upon request to the authorized MMS or Indian representatives, or to the Inspector General of the Department of the Interior or other persons authorized to receive such information, arm's-length sales and sales quantity data for like-quality coal sold, purchased, or otherwise obtained by the lessee from the area | Produce Records: ORA determined that the compliance process is exempt from the PRA because MMS staff ask non-standard questions to resolve exceptions.
Washing Allowances
206.458(a)(1) | Determination of washing allowances. (a) Arms-length contracts. (1) * * * However, before any deduction may be taken, the lessee must submit a completed page one of Form MMS-4292, Coal Washing Allowance Report, in accordance with paragraph (c)(1) of this section. A washing allowance may be claimed retroactively for a period of not more than 3 months prior to the first day of the month that Form MMS-4292 is filed with MMS, unless MMS approves a longer period upon a showing of good cause by the lessee. | Burden covered under OMB Control Number 1010-0074.
206.458(a)(3) | Determination of washing allowances. (a) Arms-length contracts. * * * (3) * * * When MMS determines that the value of the washing may be unreasonable, MMS will notify the lessee and give the lessee an opportunity to provide written information justifying the lessee's washing costs | Produce Records: ORA determined that the compliance process is exempt from the PRA because MMS staff ask non-standard questions to resolve exceptions.
206.458(b)(1) | Determination of washing allowances. (b) Non-arm's-length or no contract. (1) * * * However, before any estimated or actual deduction may be taken, the lessee must submit a completed Form MMS-4292 in accordance with paragraph (c)(2) of this section. A washing allowance may be claimed retroactively for a period of not more than 3 months prior to the first day of the month that Form MMS-4292 is filed with MMS, unless MMS approves a longer period upon a showing of good cause by the lessee. * * * | Burden covered under OMB Control Number 1010-0074. See § 206.458(a)(1).
206.458(c)(1)(i) | Determination of washing allowances. (c) Reporting requirements. (1) Arm's-length contracts. (i) With the exception of those washing allowances specified in paragraphs (c)(1)(v) and (c)(1)(vi) of this section, the lessee shall submit page one of the initial Form MMS-4292 prior to, or at the same time, as the washing allowance determined pursuant to an arm's-length contract is reported on Form MMS-4430, Solid Minerals Production and Royalty Report. * * * | Burden covered under OMB Control Number 1010-0074. See § 206.458(a)(1).
206.458(c)(1)(iii) | Determination of washing allowances. (c) Reporting requirements. (1) Arm's-length contracts. * * * (iii) After initial reporting period and for succeeding reporting periods, lessees must submit page one of Form MMS-4292 within 3 months after the end of the calendar year, or after the applicable contract or rate terminates or is modified or amended, whichever is earlier, unless MMS approves a longer period (during which period the lessee shall continue to use the allowance from the previous reporting period). | Burden covered under OMB Control Number 1010-0074. See § 206.458(a)(1).
206.458(c)(1)(iv) | Determination of washing allowances. (c) Reporting requirements. (1) Arm's-length contracts. * * * (iv) MMS may require that a lessee submit arm's-length washing contracts and non-standard questions related documents * * * | Produce Records: ORA determined that the compliance process is exempt from the PRA because MMS staff ask non-standard questions to resolve exceptions.
206.458(c)(2)(i) | Determination of washing allowances. (c) Reporting requirements. * * * (2) Non-arm's-length or no contract. (i) With the exception of those specified in paragraphs (c)(2)(v) and (c)(2)(vii) of this section, the lessee shall submit an initial Form MMS-4292 prior to, or at the same time as, the washing allowance determined pursuant to a non-arm's-length contract or no contract situation is reported on Form MMS-4430, Solid Minerals Production and Royalty Report. * * * | Burden covered under OMB Control Number 1010-0074. See § 206.458(a)(1).
206.458(c)(2)(iii) | Determination of washing allowances. (c) Reporting requirements. * * * (2) Non-arm's-length or no contract. * * * (iii) For calendar-year reporting periods succeeding the initial reporting period, the lessee shall submit a completed Form MMS-4292 containing the actual costs for the previous reporting period. If coal washing is continuing, the lessee shall include on Form MMS-4292 its estimated costs for the next calendar year. * * * Form MMS-4292 must be received by MMS within 3 months after the end of the previous reporting period, unless MMS approves a longer period (during which period the lessee shall continue to use the allowance from the previous reporting period) | Burden covered under OMB Control Number 1010-0074. See § 206.458(a)(1).
206.458(c)(2)(vi) | Determination of washing allowances. (c) Reporting requirements. * * * (2) Non-arm's-length or no contract. * * * (vi) Upon request by MMS, the lessee shall submit all data used by the lessee to prepare its Forms MMS-4292. * * * | Produce Records: ORA determined that the compliance process is exempt from the PRAct because MMS staff ask non-standard questions to resolve exceptions.
206.458(c)(4) | Determination of washing allowances. (c) Reporting requirements. * * * (4) Washing allowances must be reported as a separate line on the Form MMS-4430, unless MMS approves a different reporting procedure | 5 minutes | 12 | 1
206.458(e)(2) | Determination of washing allowances. (e) Adjustments. * * * (2) The lessee must submit a corrected Form MMS-4430 to reflect actual costs, together with any payment, in accordance with instructions provided by MMS | 30 minutes | 4 | 2
Transportation Allowances
206.461(a)(1) | Determination of transportation allowances. (a) Arm's-length contracts. (1) * * * However, before any deduction may be taken, the lessee must submit a completed page one of Form MMS-4293, Coal Transportation Allowance Report, in accordance with paragraph (c)(1) of this section. A transportation allowance may be claimed retroactively for a period of not more than 3 months prior to the first day of the month that Form MMS-4293 is filed with MMS, unless MMS approves a longer period upon a showing of good cause by the lessee | Burden covered under OMB Control Number 1010-0074.
206.461(a)(3) | Determination of transportation allowances. (a) Arm's-length contracts. * * * (3) * * * When MMS determines that the value of the transportation may be unreasonable, MMS will notify the lessee and give the lessee an opportunity to provide written information justifying the lessee's transportation costs | Produce Records: ORA determined that the compliance process is exempt from the PRA because MMS staff ask non-standard questions to resolve exceptions.
206.461(b)(1) | Determination of transportation allowances. (b) Non-arm's-length or no contract. (1) * * * However, before any estimated or actual deduction may be taken, the lessee must submit a completed Form MMS-4293 in accordance with paragraph (c)(2) of this section. A transportation allowance may be claimed retroactively for a period of not more than 3 months prior to the first day of the month that Form MMS-4293 is filed with MMS, unless MMS approves a longer period upon a showing of good cause by the lessee * * * | Burden covered under OMB Control Number 1010-0074. See § 206.461(a)(1).
206.461(c)(1)(i) | Determination of transportation allowances. (c) Reporting requirements. Arm's-length contracts. (i) With the exception of those transportation allowances specified in paragraphs (c)(1)(v) and (c)(1)(vi) of this section, the lessee shall submit page one of the initial Form MMS-4293 prior to, or at the same time as, the transportation allowance determined pursuant to an arm's-length contract is reported on Form MMS-4430, Solid Minerals Production and Royalty Report | Burden covered under OMB Control Number 1010-0074. See § 206.461(a)(1).
206.461(c)(1)(iii) | Determination of transportation allowances. (c) Reporting requirements. (1) Arm's-length contracts. * * * (iii) After the initial reporting period and for succeeding reporting periods, lessees must submit page one of Form MMS-4293 within 3 months after the end of the calendar year, or after the applicable contract or rate terminates or is modified or amended, whichever is earlier, unless MMS approves a longer period (during which period the lessee shall continue to use the allowance from the previous reporting period). Lessees may request special reporting procedures in unique allowance reporting situations, such as those related to spot sales | Burden covered under OMB Control Number 1010-0074. See § 206.461(a)(1).
206.461(c)(1)(iv) | Determination of transportation allowances. (c) Reporting requirements. (1) Arm's-length contracts. * * * (iv) MMS may require that a lessee submit arm's-length transportation contracts, production agreements, operating agreements, and related documents. * * * | Produce Records: ORA determined that the compliance process is exempt from the PRA because MMS staff ask non-standard questions to resolve exceptions.
206.461(c)(2)(i) | Determination of transportation allowances. (c) Reporting requirements. * * * (2) Non-arm's-length or no contract. (i) With the See § 206.461(a)(1). exception of those transportation allowances specified in paragraphs (c)(2)(v) and (c)(2)(vii) of this section, the lessee shall submit an initial Form MMS-4293 prior to, or at the same time as, the transportation allowance determined pursuant to a non-arm's-length contract or no contract situation is reported on Form MMS-4430, Solid Minerals Production and Royalty Report * * * | Burden covered under OMB Control Number 1010-0074.
206.461(c)(2)(iii) | Determination of transportation allowances. (c) Reporting requirements. * * * (2) Non-arm's-length or no contract.* * * (iii) For calendar-year reporting periods succeeding the initial reporting period, the lessee shall submit a completed Form MMS-4293 containing the actual costs for the previous reporting period. * * * Form MMS-4293 must be received by MMS within 3 months after the end of the previous reporting period, unless MMS approves a longer period (during which period the lessee shall continue to use the allowance from the previous reporting period) | Burden covered under OMB Control Number 1010-0074. See § 206.461(a)(1).
206.461(c)(2)(vi) | Determination of transportation allowances. (c) Reporting requirements. * * * (2) Non-arm's-length or no contract.* * * (vi) Upon request by MMS, the lessee shall submit all data used to prepare its Form MMS-4293 * * * | Produce Records: ORA determined that the compliance process is exempt from the PRA because MMS staff ask non-standard questions to resolve exceptions.
206.461(c)(4) | Determination of transportation allowances. (c) Reporting requirements. * * * (4) Transportation allowances must be reported as a separate line item on Form MMS-4430, unless MMS approves a different reporting procedure | 5 minutes | 12 | 1
206.461(e)(2) | Determination of transportation allowances. (e) Adjustments. * * * (2) The lessee must submit a corrected Form MMS-4430 to reflect actual costs, together with any payment, in accordance with instructions provided by MMS | 30 minutes | 4 | 2
210.52(a) | Report of sales and royalty remittance. (a) You must submit a completed Form MMS-2014 (Report of Sales and Royalty Remittance) to MMS with: * * * | Burden covered by OMB Control Number 1010-0140.
210.201 | How do I submit Form MMS-4430, Solid Minerals Production and Royalty Report? (a) What to submit. (1) You must submit a completed Form MMS-4430 for— * * * | 20 minutes | 2,400 | 800
210.202 | How do I submit sales summaries? (a) What to submit. (1) You must submit sales summaries for all coal and other solid minerals produced from Federal and Indian leases and for any remote storage site from which you sell Federal or Indian solid minerals * * * | 15 minutes | 1,440 | 360
210.203 | How do I submit sales contracts? (a) What to submit. You must submit sales contracts, agreements, and contract amendments for the sale of all coal and other solid minerals produced from Federal and Indian leases with ad valorem royalty terms * * * | 1 hour | 180 | 180
210.204 | How do I submit facility data? (a) What to submit. (1) You must submit facility data if you operate a wash plant, refining, ore concentration, or other processing facility for any coal, sodium, potassium, metals, or other solid minerals produced from Federal or Indian leases with ad valorem royalty terms * * * | 15 minutes | 360 | 90
210.205 | Will I need to submit additional documents or evidence to MMS? (a) Federal and Indian lease terms allow us to request detailed statements, documents, or other evidence necessary to verify compliance * * * (b) We will request this additional information as we need it * * * | Produce Records: ORA determined that the compliance process is exempt from the PRA because MMS staff ask non-standard questions to resolve exceptions (same as 206.461(a)(3)).
218.52(a) and (c) | How does a lessee designate a Designee? (a) If you are a lessee under 30 U.S.C. 1701(7), and you want to designate a person to make all or part of the payments due under a lease on your behalf under 30 U.S.C. 1712(a), you must notify MMS or the applicable delegated State in writing of such designation * * *. (c) If you want to terminate a designation you made under paragraph (a) of this section, you must provide to MMS in writing before the termination * * * | Burden covered by OMB Control Number 1010-0107.
218.57(a)(2) | Providing information and claiming rewards. (a) General. * * * (2) If a person has any information he or she believes would be valuable to MMS, that person (“informant”) should submit the information in writing, in the form of a letter * * * | Burden covered by OMB Control Number 1010-0107.
218.57(b)(3) | Providing information and claiming rewards. (b) Claim for reward. * * * (3) To file a claim for reward the informant must: (i) Notify the Director, MMS * * * that he/she is claiming a reward * * * | Burden covered by OMB Control Number 1010-0107.
218.201(b) | Method of payment. You must tender all payments * * *, except as follows: * * * (b) For Form MMS-4430 payments, include both your customer identification and your customer document identification numbers on your payment document * * * | 20 seconds | 1,095 | 6
|  | Total | 5,631 | 1,488

Estimated Annual Reporting and Recordkeeping “Non-hour Cost” Burden: We have identified no “non-hour” cost burdens.

Comments: The PRA (44 U.S.C. 3501, et seq.) provides an agency may not conduct or sponsor, and a person is not required to respond to, a collection of information unless it displays a currently valid OMB control number. Before submitting an ICR to OMB, PRA section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. We have not identified non-hour cost burdens for this information collection. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, and testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request, and the ICR will also be posted on our Web site at http://www.mrm.mms.gov/Laws_R_D/FRNotices/FRInfColl.htm.

Public Comment Policy: We will post all comments in response to this notice on our Web site at http://www.mrm.mms.gov/Laws_R_D/FRNotices/FRInfColl.htm. We will also make copies of the comments available for public review, including names and addresses of respondents, during regular business hours at our offices in Lakewood, Colorado. Individual respondents may request we withhold their home addresses from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Federal Register Liaison Officer: Denise Johnson (202) 208-3976.

Dated: March 1, 2004.
Lucy Querques Denett,
Associate Director for Minerals Revenue Management.

[FR Doc. 04-5066 Filed 3-5-04; 8:45 am]

BILLING CODE 4310-MR-U